DEPARTMENT OF THE INTERIOR

Bureau of Land Management

[OR-116-5882-PA; HAG-07-0130]

Emergency Closures and Restrictions on Public Land in Oregon

AGENCY: Bureau of Land Management, Interior.

ACTION: Emergency Closures and Restrictions.

SUMMARY: Pursuant to Title 43 Code of Federal Regulations (CFR), § 8364.1 and 43 CFR 8341.2(a), the Bureau of Land Management (BLM) Medford District Office is publishing these closures and restrictions for motorized vehicles on certain public lands in Jackson County Oregon. These lands are located within the Timber Mountain Off-Highway Vehicle (OHV) Area, under the jurisdiction of the BLM Medford District Office. The closures and restrictions are needed in order to protect the area's natural resources and provide for public health and safety and address ongoing resource damage, vehicles and off-road vehicles, and conduct.

EFFECTIVE DATE: These closures and restrictions are effective at the time of this publication, November 13, 2007, and will remain in effect until the adverse effects are eliminated and measures are implemented to prevent their reoccurrence. Comments may still be submitted and are welcome.

Comments, including names, street addresses, and other contact information of respondents, will be available for public review at the office of the Bureau of Land Management, Medford, Oregon, during regular business hours (7:45 a.m. to 4:30 p.m.), Monday through Friday, except Federal holidays. Before including your address, telephone number, email address, or other personal identifying information in your comment, be advised that your entire comment—including your personal identifying information—may be made publicly available at any time. While you can ask us in your comment to withhold from public review your personal identifying information, we cannot guarantee that we will be able to do so.

ADDRESSES: Address all comments concerning these closures and restrictions to: John Gerritsma, Bureau of Land Management, Medford District Office, 3040 Biddle Road, Medford, Oregon 97504. Comments may also be submitted electronically to Medford_Mail@blm.gov.

FOR FURTHER INFORMATION CONTACT: John Gerritsma, Medford District Office, Medford, Oregon, telephone (541) 618-2438. Persons who use a telecommunications device for the deaf (TDD) may contact this individual by calling the Federal Information Relay Service (FIRS) at (800) 877-8339, 24 hours a day, 7 days a week.

SUPPLEMENTARY INFORMATION: The BLM's Medford District Office has closed Bunny Meadows (a gravel stockpile site) and the surrounding public lands to camping and off-road vehicle use. Off-road (or off-highway) vehicle off-loading in a designated area, and motorized vehicle use on BLM road 38S-3W-14.0 will continue to be allowed to facilitate OHV access to trails and roads located to the west of Bunny Meadows on BLM-administered lands. The purpose of the closure is to protect soils, water, and fisheries resources that are suffering adverse impacts due to OHV use. In addition, this closure is needed to protect public health and safety. The legal description of the Bunny Meadows closure area is BLM-administered land in the W½ of Section 14, the NE¼ NE¼ of Section 15, and the SE¼ NE¼ of Section 15, T. 38 S., R. 3 W., Willamette Meridian (WM). This closure involves about 200 acres of BLM-administered lands.

OHV use, and associated dispersed camping, has increased tremendously in the past year in the Bunny Meadows area resulting in a user-created OHV track (used to ride laps) within streamside Riparian Reserves of Forest Creek and immediately adjacent to homes on private land. Forest Creek is designated Coho Critical Habitat, and unmanaged OHV use and dispersed camping in streamside Riparian Reserves in the Bunny Meadows area is contributing to increased sediment in Forest Creek. Coho salmon are listed as a Threatened species under the Endangered Species Act. OHVs are also crossing Forest Creek County Road along a curve with poor visibility in order to access BLM-administered lands to the north of Bunny Meadows.

The BLM Medford District Office has closed about 1,524-acres of BLM-administered lands to OHVs in the northeastern corner of the Timber Mountain OHV Area. Closed lands include portions of Sections 1, 2, 11, 12, and 13, T. 37 S., R. 3 W., and portions of Sections 5, 6, 7, 8, and 17, T. 37 S., R. 2 W., W.M. The purpose of the closure is to protect soils, water, and fisheries resources that are being adversely impacted by OHV use.

Stream surveys were conducted on a reach of Kane Creek in September 2005. Habitat conditions have changed substantially since the last survey in 2001 and are declining. Kane Creek is identified as Critical Habitat for coho salmon. Decomposed granitic sand accounts for 80-100% of all substrates in pool habitats, with deposits as much as 10 inches in depth observed. Many of the pools have accumulated so much sand that they no longer function as pools. Decomposed granitic sand now accounts for 70% of all substrates, followed by cobble (13%) and boulder (10%). Suitable aquatic habitat capable of supporting populations of salmonids has been reduced in this section of Kane Creek due to the large accumulation of sand. The deposition of sediment (granitic sand) throughout this reach is so extensive that the reach is no longer capable of storing any additional inputs. Any additional sediment inputs will be transported downstream to other aquatic habitats and stored where conditions permit, potentially impacting the entire fish bearing reach of Kane Creek. In 2001, substrate composition was described for this same reach as 10% silt, 30% sand, 25% gravel, 25% cobble, and 10% boulder. The major sources of this sediment are old skid trails and roads now used as an OHV trail system located upstream on BLM-managed lands and adjacent private lands. These roads and trails are located in highly erodible granitic soils. OHV riders are accessing these trails from both private and BLM-managed lands. One of the main access points is located on BLM-managed lands located off of Kane Creek road.

The closures, located within the Timber Mountain OHV Area, have been posted on the ground with signs. Maps of the closures are available upon request in the office of the Bureau of Land Management, 3040 Biddle Road, Medford, Oregon. Maps of the closures are also posted on BLM's Web site: http://www.blm.gov/or/districts/medford/recreation/timberedmountain.php.

The BLM designated the 16,250-acre Timber Mountain OHV Area to provide for “limited” OHV use in the 1995 Medford District Resource Management Plan (RMP). The Medford District BLM is in the process of developing the Timber Mountain Off-highway Vehicle Management Plan and Environmental Impact Statement to guide OHV use in the area.

These closures and restrictions are necessary to protect the area's natural resources, provide for the public's health and safety, and provide needed guidance in the areas of camping, occupancy, and recreation. The authorities for these closures and restrictions are 43 CFR 8341.2(a), 43 CFR 8360.0-7, and 43 CFR 8364.1. Closures and restrictions for the above-described public lands managed by the BLM are as follows:

Definitions

Off Road Vehicle (ORV) or Off-highway Vehicle (OHV): These terms are used interchangeably in this document. ORV as defined by 43 CFR section 8340.0-5(a): “any motorized vehicle capable of, or designed for, travel on or immediately over land, water, or other natural terrain, excluding:

(1) Any nonamphibious registered motorboat;

(2) Any military, fire, emergency, or law enforcement vehicle while being used for emergency purposes;

(3) Any vehicle whose use is expressly authorized by the authorized officer, or otherwise officially approved;

(4) Vehicles in official use; and

(5) Any combat or combat support vehicle when used in times of national defense emergencies.”

Closures and Restrictions for Bunny Meadows and Timber Mountain

You must not enter areas that are posted or otherwise delineated as closed areas with any motorized vehicle.

You must not camp in the Bunny Meadows closure area.

Exceptions

Exceptions to these closures and restrictions include emergency personnel (law enforcement, fire, medical), authorized BLM personnel and persons authorized to access private lands and rights-of-way within the closure boundary, any person traveling along Forest Creek County road in accord with State and County rules (non-street legal motorized vehicles are not allowed on county roadways), anyone who is off-loading OHVs in the designated parking area at Bunny Meadows gravel stockpile area or traveling in a motorized vehicle along BLM road 38S-3W-14.0 to trails and roads located to the west of Bunny Meadows on BLM-administered lands, and any person who is off-loading OHVs or traveling in a motorized vehicle along BLM road 37S-3W-11.0 to trails and roads located on BLM-administered lands southwest of the closure area.

Penalties

On public lands subject to the Federal Land Policy and Management Act of 1976, 43 U.S.C. 1701 et seq., any person who violates this closure order may be tried before a United States Magistrate and fined no more than $1,000 or imprisoned for no more than 12 months, or both. 43 U.S.C. 1733(a); 43 CFR 8360.0-7. Such violations may also be subject to the enhanced fines provided for by 18 U.S.C. 3571.

On public lands in grazing districts (see 43 U.S.C. 315a) and on public lands leased for grazing under 43 U.S.C. 315m, any person who violates this closure order may be tried before a United States Magistrate and fined no more than $500.00. Such violations may also be subject to the enhanced fines provided for by 18 U.S.C. 3571.

On public lands subject to a conservation and rehabilitation program implemented by the Secretary under 16 U.S.C. 670g et seq. (Sikes Act), any person who violates this closure order may be tried before a United States Magistrate and fined no more than $500.00 or imprisoned for no more than six months, or both. 16 U.S.C. 670j(a)(2). Such violations may also be subject to the enhanced fines provided for by 18 U.S.C. 3571.

John Gerritsma,
Field Manager, Ashland Resource Area, Medford District Bureau of Land Management.

[FR Doc. E7-22170 Filed 11-9-07; 8:45 am]

BILLING CODE 4310-33-P